FEDERAL TRADE COMMISSION

Remedial Use of Disgorgement

AGENCY: Federal Trade Commission (FTC or Commission).

ACTION: Notice; extension of public comment period.

SUMMARY: The Commission is extending the period for comments on the use of disgorgement as a remedy for violations of the Hart-Scott-Rodino (HSR) Act, FTC Act and Clayton Act.

DATES: Comments must be received by March 29, 2002.

ADDRESSES: An original and twelve (12) copies of any comments filed in paper form should be directed to: FTC/Office of the Secretary, Room 159-H, 600 Pennsylvania Avenue, NW, Washington, DC 20580. Comments filed in electronic form should be directed to disgorgementcomment@ftc.gov, as described below.

FOR FURTHER INFORMATION CONTACT: John Graubert, Office of General Counsel, FTC, 600 Pennsylvania Avenue, NW, Washington, DC 20580, (202) 326-2186, jgraubert@ftc.gov.

SUPPLEMENTARY INFORMATION: In a notice published at 66 FR 67254 (Dec. 28, 2001), the Commission solicited public comment on the factors the Commission should consider in applying disgorgement in competition cases and how this remedy should be calculated. In consideration of a request from a potential commentor, the Commission has determined that it would be in the public interest to extend the original deadline of March 1, 2002, so that all interested parties have the fullest opportunity to prepare and submit their comments on the questions set forth in the previously published notice. Accordingly, the Commission invites public comment until March 29, 2002, which may be submitted as specified above in the ADDRESSES section of this notice.

Public comments are invited, and may be filed with the Commission in either paper or electronic form. Comments filed in paper form should be directed to: FTC/Office of the Secretary, Room 159-H, 600 Pennsylvania Avenue, NW, Washington, DC 20580. If a comment contains nonpublic information, it must be filed in paper form, and the first page of the document must be clearly labeled “confidential.” Comments that do not contain any nonpublic information may instead be filed in electronic form (in ASCII format, WordPerfect, or Microsoft Word) as part of or as an attachment to e-mail messages directed to the following e-mail box: disgorgementcomment@ftc.gov. Such comments will be considered by the Commission and will be available for inspection and copying at its principal office in accordance with Section 4.9(b)(6)(ii) of the Commission's Rules of Practice, 16 CFR 4.9(b)(6)(ii).

By Direction of the Commission.
Donald S. Clark,
Secretary.

[FR Doc. 02-5328 Filed 3-5-02; 8:45 am]

BILLING CODE 6750-01-P